DEPARTMENT OF THE INTERIOR

National Park Service

[NPS-WASO-NAGPRA-NPS0025951; PPWOCRADN0-PCU00RP14.R50000]

Notice of Inventory Completion: Binghamton University, State University of New York, Binghamton, NY

AGENCY: National Park Service, Interior.

ACTION: Notice.

SUMMARY: The Binghamton University has completed an inventory of human remains and associated funerary objects, in consultation with the appropriate Indian Tribes or Native Hawaiian organizations, and has determined that there is a cultural affiliation between the human remains and associated funerary objects and present-day Indian Tribes or Native Hawaiian organizations. Lineal descendants or representatives of any Indian Tribe or Native Hawaiian organization not identified in this notice that wish to request transfer of control of these human remains and associated funerary objects should submit a written request to the Binghamton University. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to the Binghamton University at the address in this notice by September 7, 2018.

ADDRESSES: Nina M. Versaggi, Public Archaeology Facility, Binghamton University, P.O. Box 6000, Binghamton, NY 13902-6000, telephone (607) 777-478, email nversagg@binghamton.edu.

SUPPLEMENTARY INFORMATION: Notice is here given in accordance with the Native American Graves Protection and Repatriation Act (NAGPRA), 25 U.S.C. 3003, of the completion of an inventory of human remains and associated funerary objects under the control of the Binghamton University, Binghamton, NY. The human remains and associated funerary objects were removed from the following four sites: Roundtop (SUBi-365), Village of Endicott, Broome County, NY; Steen Topsoil Removal Plant, Town of Owego, Tioga County, NY; Cottage (SUBi-220), Town of Owego, Tioga County, NY; and Owego Sewage Plant Site (SUBi-336), Town of Owego, Tioga County, NY.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the Binghamton University professional staff in consultation with representatives of the Cayuga Nation; Delaware Nation, Oklahoma; Delaware Tribe of Indians; Oneida Nation (previously listed as the Oneida Tribe of Indians of Wisconsin); Oneida Indian Nation (previously listed as the Oneida Nation of New York); Onondaga Nation; Saint Regis Mohawk Tribe (previously listed as the St. Regis Band of Mohawk Indians of New York); Seneca Nation of Indians (previously listed as the Seneca Nation of New York); Seneca-Cayuga Nation (previously listed as the Seneca-Cayuga Tribe of Oklahoma); Stockbridge Munsee Community, Wisconsin; Tonawanda Band of Seneca (previously listed as the Tonawanda Band of Seneca Indians of New York); and Tuscarora Nation (hereafter referred to as “The Consulted Tribes”).

History and Description of the Remains

The Roundtop site (SUBi-365): In 1965, a burial containing the human remains of two individuals was excavated at the Roundtop site in the Village of Endicott, Broome County, NY, by a Binghamton University field school. Subsequently, the human remains were transferred to the control of the New York State Museum. This site was also excavated by amateurs as well as the New York State Museum. Much has been published on the site, including data showing it was a multicomponent site dating between circa A.D. 1000 and 1600. No known individuals are associated with that burial. The human remains and some associated funerary objects (AFOs) have been under the control of the New York State Museum since their excavation; the remainder of the AFOs are under the control of the University. The 197 AFOs under the control of Binghamton University are: Six chert decortification flakes, one chert shatter, three chert blocks, 14 chert waste flakes, one large chert waste flake, three chert blocks, eight chert shatter, six chert decortification flakes, 52 chert waste flakes, seven utilized chert flakes, 18 chert waste flakes, one chert decortification flake, two chert shatter, one possible utilized flake, eight chert shatter, five chert decortification flakes, one fire-reddened jasper waste flake, six chert chunks, four utilized chert flakes, one retouched chert flake, and 49 chert waste flakes. Roundtop site is located within the traditional territories of the Delaware Nation, Oklahoma; Delaware Tribe, Oklahoma; and Onondaga Nation of New York.

Steen Topsoil Removal Plant site: During the early 1980s, human remains representing, at minimum, three individuals were removed from a back dirt pile at this mining site in the Town of Owego, Tioga County, NY. They were dropped off at Binghamton University anonymously. There were no associated funerary objects included in the donation. A bioarcheologist and archeologist from Binghamton University determined that the human remains were Native American. No known individuals are associated with that burial. The site is located within the traditional territories of the Delaware Nation, Oklahoma; Delaware Tribe, Oklahoma; and the Onondaga Nation, New York.

Cottage site (SUBi-220): In 1973, human remains representing two individuals were donated to Binghamton University by a local collector who removed items from this site located in the Town of Owego, Tioga County, NY. There were no associated funerary objects included in the donation. A bioarcheologist and archeologist from Binghamton University determined that the human remains were Native American. No known individuals are associated with that burial. The site is located within the traditional territories of the Delaware Nation, Oklahoma; Delaware Tribe, Oklahoma; and the Onondaga Nation, New York.

Owego Sewage Plant site (SUBi-336): In 1965, human remains representing, at minimum, one individual were removed from this site in the Town of Owego, Tioga County, NY. A Binghamton University faculty member and the Triple Cities Chapter of the New York State Archaeological Association conducted salvage excavations when cultural material was uncovered. A bioarcheologist and archeologist from Binghamton University determined that the human remains were Native American. No known individuals are associated with that burial. The site is located within the traditional territories of the Delaware Nation, Oklahoma; Delaware Tribe, Oklahoma; and the Onondaga Nation, New York.

Haudenosaunee oral tradition states that they are affiliated culturally, spiritually, biologically, and personally to the ancient ancestors located within their traditional aboriginal territories. This connection is based upon Haudenosaunee oral history, cultural practices, language, and the philosophy of respect for those ancestors that have passed. The Haudenosaunee assert this affiliation to all Native American ancestors located within their extended aboriginal territory based on their cultural and spiritual beliefs as The People of the Long House. Therefore, they argue that this evidence supports a relationship of shared group identity which can be reasonably traced from the Onondaga Nation to the Roundtop site, Steen Topsoil Removal site, Cottage site, and Owego Sewage Plant site. Similarly, the Delaware Nation and Delaware Tribe recognize that they have a territorial connection to, and cultural affiliation with, these sites located in Broome and Tioga Counties, NY.

Determinations Made by the Binghamton University

Officials of the Binghamton University have determined that:

• Pursuant to 25 U.S.C. 3001(9), the human remains described in this notice represent the physical remains of eight individuals of Native American ancestry.

• Pursuant to 25 U.S.C. 3001(3)(A), the 197 objects described in this notice are reasonably believed to have been placed with or near individual human remains at the time of death or later as part of the death rite or ceremony.

• Pursuant to 25 U.S.C. 3001(2), there is a relationship of shared group identity that can be reasonably traced between the Native American human remains and associated funerary objects and the Delaware Nation, Oklahoma; Delaware Tribe of Indians; and Onondaga Nation.

Additional Requestors and Disposition

Lineal descendants or representatives of any Indian Tribe or Native Hawaiian organization not identified in this notice that wish to request transfer of control of these human remains and associated funerary objects should submit a written request with information in support of the request to Nina M. Versaggi, Public Archaeology Facility, Binghamton University, P.O. Box 6000, Binghamton, NY 13902-6000, telephone (607) 777-478, email nversagg@binghamton.edu, by September 7, 2018. After that date, if no additional requestors have come forward, transfer of control of the human remains and associated funerary objects to the Delaware Nation, Oklahoma; Delaware Tribe of Indians; and Onondaga Nation may proceed.

The Binghamton University is responsible for The Consulted Tribes that this notice has been published.

Dated: July 9, 2018.
Melanie O'Brien,
Manager, National NAGPRA Program.

[FR Doc. 2018-16923 Filed 8-7-18; 8:45 am]

BILLING CODE 4312-52-P